DEPARTMENT OF VETERANS AFFAIRS

Advisory Committee on Minority Veterans, Notice of Meeting

The Department of Veterans Affairs (VA) gives notice under the Federal Advisory Committee Act, 5 U.S.C. ch. 10, that the Advisory Committee on Minority Veterans will meet virtually via Microsoft Teams meet on July 12, 2023. The meeting sessions will begin, and end as follows:

Dates | Times
July 12, 2023 | 11 a.m.-2:30 p.m.—eastern standard time (EST).

This meeting is open to the public.

The purpose of the Committee is to advise the Secretary with respect to the administration of benefits by VA for Veterans who are minority group members, by reviewing reports and studies on compensation, health care, rehabilitation, outreach and other benefits and services administered by the Department. The Committee makes recommendations to the Secretary regarding such activities.

On July 12, the Committee will receive briefings and updates from the Advisory Committee Management Office, Center for Minority Veterans, and Veterans Health Administration. The Committee will receive public comments from 2 p.m. to 2:15 p.m. EST. The Committee will conduct an after-action review.

Individuals who wish to provide public comments are invited to submit a 1-2-page summary of their comments no later than July 5, 2023 for inclusion in the official meeting record. Members of the public may also submit written statements for the Committee's review to Mr. Dwayne Campbell, at Dwayne.Campbell3@va.gov. Any member of the public seeking additional information should contact Mr. Dwayne Campbell or Mr. Ronald Sagudan at (202) 461-6191.

Individuals who wish to attend the virtual meeting, can do so by dialing into the Microsoft Teams conference information +1 872-701-0185, Phone Conference ID: 550 496 43#.

Dated: June 7, 2023.
Jelessa M. Burney,
Federal Advisory Committee Management Officer.

[FR Doc. 2023-12499 Filed 6-9-23; 8:45 am]

BILLING CODE P